DEPARTMENT OF COMMERCE

Foreign-Trade Zones Board

[B-19-2015]

Authorization of Production Activity; Foreign-Trade Subzone 167B; Polaris Industries, Inc. (Spark-Ignition Internal Combustion Engines); Osceola, Wisconsin

On March 30, 2015, Polaris Industries, Inc., operator of Subzone 167B, submitted a notification of proposed production activity to the Foreign-Trade Zones (FTZ) Board for its facility located in Osceola, Wisconsin.

The notification was processed in accordance with the regulations of the FTZ Board (15 CFR part 400), including notice in the Federal Register inviting public comment (80 FR 19276, 4-10-2015). The FTZ Board has determined that no further review of the activity is warranted at this time. The production activity described in the notification is authorized, subject to the FTZ Act and the FTZ Board's regulations, including Section 400.14.

Dated: August 3, 2015.
Andrew McGilvray,
Executive Secretary.

[FR Doc. 2015-19485 Filed 8-6-15; 8:45 am]

BILLING CODE 3510-DS-P